DEPARTMENT OF LABOR

Employment and Training Administration

[TA-W-70,324]

Delphi Packard Electrical/Electronic Architecture, a Subsidiary of Delphi Corporation, Including On-Site Leased Workers From Bartech and EDS, an HP Company; Warren, OH; Amended Certification Regarding Eligibility To Apply for Worker Adjustment Assistance

In accordance with Section 223 of the Trade Act of 1974, as amended (“Act”), 19 U.S.C. 2273, the Department of Labor issued a Certification of Eligibility to Apply for Worker Adjustment Assistance on December 8, 2009, applicable to workers of Delphi Packard Electrical/Electronic Architecture, a subsidiary of Delphi Corporation, including on-site leased workers from Bartech, Warren, Ohio. The notice was published in the Federal Register on January 25, 2010 (75 FR 3930). The notice was amended on January 28, 2010 to include on-site leased workers from EDS an HP Company. The notice was published in the Federal Register on April 1, 2010 (75 FR 16513)

At the request of the State Agency, the Department reviewed the certification for workers of the subject firm. The workers are engaged in the production of wiring and connector components.

The review shows that on November 3, 2006, a certification of eligibility to apply for adjustment assistance was issued for all workers of Delphi Packard Electric, Warren, Ohio, separated from employment on or after July 26, 2005 through November 3, 2008. The notice was published in the Federal Register on November 22, 2006 (71 FR 67649).

In order to avoid an overlap in worker group coverage, the Department is amending the May 19, 2008 impact date established for TA-W-70,324, to read November 4, 2008.

The amended notice applicable to TA-W-70,324 is hereby issued as follows:

All workers of Delphi Packard Electrical/Electronic Architecture, a subsidiary of Delphi Corporation, including on-site leased workers from Bartech and EDS an HP Company, Warren, Ohio (TA-W-70,324, Delphi Packard Electrical/Electronic Architecture, a subsidiary of Delphi Corporation, including on-site leased workers from Bartech, and EDS an HP Company, Rootstown, Ohio (TA-W-70,324A), Delphi Packard Electrical/Electronic Architecture, a subsidiary of Delphi Corporation, including on-site leased workers from Bartech and EDS an HP Company, Vienna, Ohio (TA-W-70,324B), Delphi Packard Electrical/Electronic Architecture, a subsidiary of Delphi Corporation, including on-site leased workers from Bartech and EDS an HP Company, Howland, Ohio (TA-W-70,324C), Delphi Packard Electrical/Electronic Architecture, a subsidiary of Delphi Corporation, including on-site leased workers from Bartech, and EDS an HP Company, Cortland, Ohio (TA-W-70,324D), who became totally or partially separated from employment on or after November 4, 2008, through December 8, 2011, and all workers in the group threatened with total or partial separation from employment on date of certification through two years from the date of certification, are eligible to apply for adjustment assistance under Chapter 2 of Title II of the Trade Act of 1974, as amended.

Signed in Washington, DC, this 11th day of May 2010.
Michael W. Jaffe,
Certifying Officer, Division of Trade Adjustment Assistance.

[FR Doc. 2010-12253 Filed 5-20-10; 8:45 am]

BILLING CODE 4510-FN-P